DEPARTMENT OF ENERGY

Federal Energy Regulatory Commission

[Docket Nos. ER06-615-011; ER06-615-012; ER07-1257-000]

California Independent System Operator Corporation; Notice Seeking Comment on Need for Technical Conference

September 15, 2009.

On September 26, 2007, Commission staff convened a technical conference to discuss provisions in the California Independent System Operator Corporation's (CAISO) Business Practice Manuals (BPMs) which, in parties' view, should be included in the CAISO's Market Redesign and Technology Upgrade (MRTU) tariff.¹ As a result of the technical conference, on November 15, 2007, the CAISO proposed to revise the MRTU tariff to include additional provisions that had originally been included in the BPMs.²

¹ Notice of Technical Conference, Docket Nos. ER06-615-012 and ER07-1257-000 (Sept. 11, 2007).

² See CAISO Post-Technical Conference Response, Docket Nos. ER06-615-012 and ER07-1257-000, at 7 (filed Nov. 15, 2007).

In an order issued on March 24, 2008, the Commission accepted and rejected various proposed tariff revisions submitted by the CAISO and ordered a further compliance filing.³ In the March 2008 Order, the Commission also directed staff to convene a technical conference “approximately six months after MRTU implementation [to] provide all parties with a final opportunity to identify any details in new or revised [BPM] language developed after November 15, 2007, which commenters believe should be included in the MRTU tariff.” ⁴

³ Cal Indep. Sys. Operator Corp., 122 FERC ¶ 61,271 (2008) (March 2008 Order).

⁴ Id. P 122.

To address the directive of the March 2008 Order, the Commission is seeking comments from parties in the above-referenced proceedings, as set forth in the Commission's Rules of Practice and Procedure,⁵ on the need for Commission staff to convene a technical conference for the purposes of “provid[ing] all parties with a final opportunity to identify any details in new or revised [BPM] language developed after November 15, 2007, which commenters believe should be included in the MRTU tariff.” ⁶ Parties may file written comments on or before September 22, 2009.

⁵ 18 CFR 385.102(c).

⁶ Id. (emphasis added).

Kimberly D. Bose,
Secretary.

[FR Doc. E9-22703 Filed 9-21-09; 8:45 am]

BILLING CODE 6717-01-P